DEPARTMENT OF COMMERCE

National Oceanic and Atmospheric Administration

[I.D. 031406G]

Endangered Species; File No. 1527

AGENCY: National Marine Fisheries Service (NMFS), National Oceanic and Atmospheric Administration (NOAA), Commerce.

ACTION: Notice; issuance of permit.

SUMMARY: Notice is hereby given that John A. Musick, Ph.D., Virginia Institute of Marine Science (VIMS), Gloucester Point, VA 23062, has been issued a permit to take loggerhead (Caretta caretta), Kemp's ridley (Lepidochelys kempii), leatherback (Dermochelys coriacea), green (Chelonia mydas), and hawksbill (Eretmochelys imbricata) sea turtles for purposes of scientific research.

ADDRESSES: The permit and related documents are available for review upon written request or by appointment in the following office(s):

Permits, Conservation and Education Division, Office of Protected Resources, NMFS, 1315 East-West Highway, Silver Spring, MD 20910; phone (301)713-2289; fax (301)427-2521; and

Northeast Regional Office, NMFS, One Blackburn Drive, Gloucester, MA 01930-2298; phone (978)281-9328; fax (978)281-9394.

FOR FURTHER INFORMATION CONTACT: Patrick Opay or Kate Swails, (301)713-2289.

SUPPLEMENTARY INFORMATION: On August 24, 2005, notice was published in the Federal Register (70 FR 49577) that a request for a scientific research permit to take loggerhead, Kemp's ridley, green, leatherback, and hawksbill sea turtles had been submitted by the applicant. The requested permit has been issued under the authority of the Endangered Species Act of 1973, as amended (ESA; 16 U.S.C. 1531 et seq.) and the regulations governing the taking, importing, and exporting of endangered and threatened species (50 CFR parts 222-226).

The research will take place in the waters of the Chesapeake Bay, and the local Virginia and Maryland tributaries to the Bay. Researchers will capture up to 100 loggerhead, 30 Kemp's ridley, 10 leatherback, 10 green, and 5 hawksbill sea turtles each year over the course of the permit. The turtles will be captured by relocation trawlers as part of dredging activities authorized under separate permits, or incidentally captured in pound net fisheries and then turned over to the applicant. Turtles will be measured, weighed, blood sampled, flipper tagged, and PIT tagged. A subset of these animals will have satellite and/or radio/sonic transmitters attached to their carapace. Twenty loggerhead sea turtles will be used in a whelk gear bycatch reduction study. The research will identify sea turtle's relative abundance over time; detect changes in size and age composition; monitor and document movement and migration patterns; and study sea turtle interactions with whelk pot gear. The permit is issued for 5 years.Issuance of this permit, as required by the ESA, was based on a finding that such permit (1) was applied for in good faith, (2) will not operate to the disadvantage of any endangered or threatened species, and (3) is consistent with the purposes and policies set forth in section 2 of the ESA.

Dated: March 31, 2006.
Stephen L. Leathery,
Chief, Permits, Conservation and Education Division, Office of Protected Resources, National Marine Fisheries Service.

[FR Doc. E6-5025 Filed 4-5-06; 8:45 am]

BILLING CODE 3510-22-S